DEPARTMENT OF COMMERCE

International Trade Administration

University of Florida, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Avenue NW., Washington, DC.

Docket Number: 11-065. Applicant: University of Florida, Gainesville, FL 32610-0245. Instrument: Electron Microscope. Manufacturer: FEI Co., Czech Republic. Intended Use: See notice at 76 FR 70410, November 14, 2011.

Docket Number: 11-066. Applicant: University of Florida, Gainesville, FL 32610-0245. Instrument: Electron Microscope. Manufacturer: FEI Co., Czech Republic. Intended Use: See notice at 76 FR 70410, November 14, 2011.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: December 8, 2011.
Gregory W. Campbell,
Director, Subsidies Enforcement Office, Import Administration.

[FR Doc. 2011-32081 Filed 12-13-11; 8:45 am]

BILLING CODE 3510-DS-P